DEPARTMENT OF COMMERCE

National Oceanic and Atmospheric Administration

Proposed Information Collection; Comment Request; Socio-Economic Survey of Hired Captains and Crew in New England and Mid-Atlantic Commercial Fisheries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before April 23, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Lisa L. Colburn, (401) 782-3252 or lisa.l.colburn@noaa.gov.

SUPPLEMENTARY INFORMATION:

I. Abstract

This request is for a reinstatement with change of a previously approved collection.

The NOAA Fisheries, Northeast Fisheries Science Center, Social Science Branch (SSB) seeks to conduct surveys to provide for the ongoing collection of social and economic data related to the fishing industry in the New England and Mid-Atlantic States. The purpose of this survey is to assess the current social and economic conditions of commercial fishing crews for which little is known. The proposed survey is as a follow-up to a baseline study conducted in 2011/2012. The intent of the proposed study is to assess how and why commercial crew working conditions may have changed since the initial 2011/2012 assessment. Data needed for this assessment support fishery performance measures developed by the SSB, which include information on financial viability, distributional outcomes, stewardship, governance, and well-being. Data to be collected include demographic information on crew, wage calculations systems, individual and community well-being, fishing practices, job satisfaction, job opportunities, and attitudes toward fisheries management. The National Environmental Policy Act (NEPA) and Magnuson-Stevens Conservation and Management Act (MSA) both contain requirements for considering the social and economic impacts of fishery management decisions. There is a need to understand how such fishery management policies and programs will affect the social and economic characteristics of those involved in the commercial fishing industry. To help meet these requirements of NEPA and MSA, the SSB will collect data on an ongoing basis to track how socio-economic characteristics of fisheries are changing over time and the impact of fishery management policies and programs implemented in New England and the Mid-Atlantic regions.

II. Method of Collection

This information will be collected though in-person intercept surveys.

III. Data

OMB Control Number: 0648-0636.

Form Number(s): None.

Type of Review: Regular submission (reinstatement with change of a previously approved collection).

Affected Public: Individuals or households; Business or other for-profit organizations.

Estimated Number of Respondents: 500.

Estimated Time per Response: 20 minutes.

Estimated Total Annual Burden Hours: 167.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: February 15, 2018.
Sarah Brabson,
NOAA PRA Clearance Officer.

[FR Doc. 2018-03542 Filed 2-20-18; 8:45 am]

BILLING CODE 3510-22-P